DEPARTMENT OF DEFENSE

Office of the Secretary

Independent Review Panel on Military Medical Construction Standards; Notice of Federal Advisory Committee Meeting; Cancellation

AGENCY: Department of Defense (DoD).

ACTION: Notice of meeting; cancellation.

SUMMARY: On Tuesday, June 23, 2015 (80 FR 35943-35944), the Department of Defense published a notice announcing a meeting of the Independent Review Panel on Military Medical Construction Standards (“the Panel”), which was scheduled for Tuesday, July 14, 2015. This notice announces the cancellation of the July 14, 2015 meeting. Due to the Panel's desire to present a more inclusive report for public deliberation that further addresses the requirement, the scheduled Panel meeting on July 14, 2015 is cancelled.

FOR FURTHER INFORMATION CONTACT: Ms. Christine Bader, christine.e.bader.civ@mail.mil, (703) 681-6653 or Ms. Kendal Brown, kendal.l.brown2.ctr@mail.mil, (703) 681-6670.

SUPPLEMENTARY INFORMATION: Meeting Announcement: Due to the Panel's desire to present a more inclusive report for public deliberation that further addresses the requirement, the scheduled Panel meeting on July 14, 2015 is cancelled.

The Department of Defense, at the request of the members of the Independent Review Panel on Military Medical Construction Standards, has cancelled the previously announced meeting scheduled for July 14, 2015. The meeting will be rescheduled at a later date and announced according to 5 U.S.C., Appendix, section 10, and 41 CFR 102-3.150. Since the Designated Federal Officer for the Independent Review Panel on Military Medical Construction Standards was unable to provide public cancellation notification in sufficient time, as required by 41 CFR 102-3.150(a), the Advisory Committee Management Officer for the Department of Defense, pursuant to 41 CFR 102-3.150(b), waives the 15-calendar day cancellation notification requirement.

Dated: July 2, 2015.
Aaron Siegel,
Alternate OSD Federal Register Liaison Officer, Department of Defense.

[FR Doc. 2015-16709 Filed 7-7-15; 8:45 am]

BILLING CODE 5001-06-P